ENVIRONMENTAL PROTECTION AGENCY

[EPA-HQ-OAR-2020-0351; FRL-10020-42-OAR]

Ozone Transport Commission Recommendation That EPA Require Daily Limits for Emissions of Nitrogen Oxides From Certain Sources in Pennsylvania: Extension of Comment Period

AGENCY: Environmental Protection Agency (EPA).

ACTION: Notice; extension of comment period.

SUMMARY: On January 15, 2021, EPA issued a Federal Register notice of public hearing and supplemental information regarding a recommendation submitted by the Ozone Transport Commission (OTC) to address ongoing ozone pollution in the northeastern United States. The OTC has recommended that EPA require Pennsylvania to revise its state implementation plan (SIP) to include additional control measures that would establish daily limits on emissions of nitrogen oxides (NOX) from coal-fired electricity generating units (EGUs) with already-installed selective catalytic reduction (SCR) or selective noncatalytic reduction (SNCR) controls. This document extends the comment period for 30 days, from March 8, 2021 to April 7, 2021.

DATES: Comments identified by docket identification (ID) number EPA-HQ-OAR-2020-0351 must be received on or before April 7, 2021.

ADDRESSES: Follow the detailed instructions provided under ADDRESSES in the Federal Register document of January 15, 2021 (86 FR 4049).

FOR FURTHER INFORMATION CONTACT: Beth Murray, Clean Air Markets Division, Office of Atmospheric Programs, Office of Air and Radiation, Environmental Protection Agency, 202-343-9115, murray.beth@epa.gov.

SUPPLEMENTARY INFORMATION: This document extends the public comment period established in the Federal Register document of January 15, 2021 (86 FR 4049), which opened a public comment period for supplemental information concerning a recommendation submitted by the OTC to EPA under CAA section 184(c). In the January 15, 2021 notice, EPA discussed the relevant statutory provisions, described the steps EPA is following to facilitate public participation in the Agency's process for reaching a decision on the recommendation, discussed the OTC recommendation—including the Delaware, Maryland, and New Jersey rules that OTC believes should become the standards for EPA's approval of a responsive SIP revision from Pennsylvania, identified the potentially affected Pennsylvania EGUs, and summarized the supporting information provided by the OTC. EPA further provided information on the potentially affected EGUs' historical emissions and on regulatory context that may be relevant to EPA's decision on the recommendation.

EPA is hereby extending the public comment period, which was set to end on March 8, 2021, to April 7, 2021. After considering a request to extend the comment period received from a stakeholder, EPA is extending the comment period for the following reasons: (1) The legal and technical complexity of the analysis of the recommendation; (2) the need for stakeholders to consider the interaction of this decision with other actions the Agency is concurrently considering; (3) the stakeholders' need for additional time to review and develop constructive comments and related analyses on the recommendation. To submit comments, or access the docket, please follow the detailed instructions provided under ADDRESSES in the Federal Register document of January 15, 2021. If you have any questions regarding the applicability of this action to a particular entity, consult the person listed under FOR FURTHER INFORMATION CONTACT.

Hans Christopher Grundler,
Director, Office of Atmospheric Programs.

[FR Doc. 2021-03367 Filed 2-18-21; 8:45 am]

BILLING CODE 6560-50-P